DEPARTMENT OF DEFENSE

Department of the Army; Corps of Engineers

Intent To Prepare a Draft Environmental Impact Statement for the Proposed Development by Cooper Land Development, Inc. in Baldwin County, AL

AGENCY: Department of the Army, Corps of Engineers, DoD.

ACTION: Notice of intent.

SUMMARY: The U.S. Army Corps of Engineers, Mobile District (Corps) intends to prepare a Draft Environmental Impact Statement (DEIS) to address the potential impacts associated with the construction of the Cooper Land Development project located near Stockton in Baldwin County, Alabama. The Corps will be evaluating a permit application for the work under the authority of Section 404 of the Clean Water Act. The environmental impact statement will be used as a basis for the permit decision and to ensure compliance with the National Environmental Policy Act (NEPA).

DATES: A scoping meeting will be held on October 28, 2003, at the Bay Minette Civic Center, 301 D'Olive Street, Bay Minette, Alabama 36507 beginning at 6:30 p.m.

FOR FURTHER INFORMATION CONTACT: Questions about the proposed action and the DEIS should be addressed to Dr. Diane Findley (diane.i.findley@sam.usace.army.mil), phone 251-694-3857 or Munther Sahawneh (munther.n.sahawneh@sam.usace.army.mil), phone 251-694-3782. Mailing address for Dr. Findley and Mr. Sahawneh is U.S. Army Corps of Engineers, P.O. Box 2288, Mobile, AL 36628-0001.

SUPPLEMENTARY INFORMATION: 1. The permit applicant (Department of Army permit application number AL03-00285-H) is proposing a residential development that will result in filling/impacting approximately 349.3 acres of wetlands and approximately 7.05 linear miles of streams. The project site contains approximately 845 acres of jurisdictional wetlands and 14.53 miles of streambeds. This residential development project is comprised of approximately 5,024 acres and is located near the Stockton Community in Baldwin County. The proposed project will consist of the construction of six lakes, three 18-hole golf courses, roadways, and approximately 9,000 low to medium density single-family residential home sites. The lakes will be created as impoundments through the construction of dams across existing stream segments and bottomlands. In addition to their use for recreation, the lakes will be used to supply irrigation water to the development. It is anticipated that the proposed development will occur in at least three (3) phases over a period of approximately 15 years.

2. Alternatives to the applicant's proposal may exist which would reduce the impacts. These could include alternative site layouts sites or alternate site locations.

3. Scoping:

a. The Corps invites full public participation to promote open communication on the issues surrounding the proposal. All Federal, State, and local agencies, and other persons or organizations that have an interest are urged to participate in the NEPA scoping process. A public meeting will be held to help identify significant issues and to receive public input and comment (see DATES).

b. The DEIS will analyze the potential social, economic, and environmental impacts to the local area resulting from the proposed project. Specifically, the following major issues will be analyzed in depth in the DEIS alternatives: hydrologic and hydraulic regimes, wetlands, streams, cultural resources, utilities, socioeconomic characteristics, biological resources, threatened and endangered species, transportation systems, secondary impacts, cumulative impacts, environmental justice (effect on minorities and low income groups), and protection of children (E.O. 13045).

c. The Corps will serve as the lead Federal agency in the preparation of the DEIS. It is anticipated that the following agencies will be invited and will accept cooperating agency status for the preparation of the DEIS: U.S. Environmental Protection Agency; U.S. Department of the Interior, Fish and Wildlife Service; Alabama Department of Environmental Management; Alabama Department of Conservation and Natural Resources; Alabama State Historic Preservation Officer; Alabama Department of Transportation; South Alabama Regional Planning Commission; Baldwin County; and the City of Bay Minette.

4. It is anticipated that the DEIS will be made available for public review in August 2004.

Ronald A. Krizman,
Chief, Regulatory Branch.

[FR Doc. 03-24614 Filed 9-26-03; 8:45 am]

BILLING CODE 3710-CR-M